DEPARTMENT OF COMMERCE

Bureau of Export Administration

15 CFR Part 774

[Docket No. 990625176-0029-02]

RIN 0694-AB86

Revisions and Clarifications to the Export Administration Regulations; Commerce Control List

Correction

In rule document 00-13252 beginning on page 34073 in the issue of Friday, May 26, 2000, make the following correction:

PART 774 [CORRECTED]

1. On page 34075, in Supplement No. 1 to Part 774, in the third column, in “note 1.”, in the second line, “desired” should read “designed”.

2. On page 34076, in the same supplement, in the second column, in paragraph b.2.f.3., “+0.3” should read “±0.3”.

3. On the same page, in the same supplement, in the same column, in paragraph b.3.a.3., “+10” should read “±10”.

[FR Doc. C0-13252 Filed 7-12-00; 8:45 am]

BILLING CODE 1505-01-D

DEPARTMENT OF TRANSPORTATION

Federal Aviation Administration

14 CFR Part 39

[Docket No. 2000-NM-208-AD; Amendment 39-11801; AD 2000-13-02]

RIN 2120-AA64

Airworthiness Directives; Empresa Brasileira de Aeronautica S.A. (EMBRAER) Model EMB-135 and EMB-145 Series Airplanes

Correction

In rule document 00-16110 beginning on page 39541 in the issue of Tuesday, June 27, 2000, make the following correction:

§39.13 [Corrected]

On page 39543, in the first column, in paragraph (b), the lines between “Assisted Start:” and “APU bleed start:” are corrected to read as follows:ÿ7E

Crossbleed Start:
N2 (operating engine) | ABOVE 80%
Crossbleed | AUTO OR OPEN
Engine Bleed (operating engine) | OPEN
Start/Stop Selector | START, THEN RUN
Engine Indication | MONITOR

Check ITT and N2 rising. Observe limits. Check ignition and fuel flow indication at 10% N2.

APU bleed start:
* * * * *

[FR Doc. C0-16110 Filed 7-12-00; 8:45 am]

BILLING CODE 1505-01-D

DEPARTMENT OF TRANSPORTATION

Federal Aviation Administration

14 CFR Part 71

[Airspace Docket No. 00-ACE-7]

Amendment to Class E Airspace; Hampton, IA

Correction

In rule document 00-12821, in the issue of Friday, June 16, 2000, on page 37833, in the third column, the phrase “ACE AI E5 Hampton, IA [Revised]” should read “ACE IA E5 Hampton, IA [Revised]”.

[FR Doc. C0-12821 Filed 7-12-00; 8:45 am]

BILLING CODE 1505-01-D

DEPARTMENT OF TRANSPORTATION

Federal Aviation Administration

14 CFR Part 71

[Airspace Docket No. 00-ASO-24]

Proposed Establishment of Class D Airspace; Oak Grove, NC

Correction

In proposed rule document 00-15944 beginning on page 39111 in the issue of Friday, June 23, 2000 make the following correction:

On page 39111, in the first column, under the heading DATES: , “June 24, 2000” should read “July 24, 2000 ”.

[FR Doc. C0-15944 Filed 7-12-00; 8:45 am]

BILLING CODE 1505-01-D